DEPARTMENT OF TRANSPORTATION

Coast Guard

33 CFR Part 117

[CGD01-00-239]

Drawbridge Operation Regulations: Danvers River, MA.

AGENCY: Coast Guard, DOT.

ACTION: Notice of temporary deviation from regulations.

SUMMARY: The Commander, First Coast Guard District, has issued a temporary deviation from the drawbridge operation regulations governing the operation of the Massachusetts Bay transportation Authority (MBTA)/Amtrak Bridge, at mile 0.05, across the Danvers River between Beverly and Salem, Massachusetts. This deviation allows the bridge owner to keep the bridge in the closed position from 6 a.m. on Saturday November 18, 2000, through 6 p.m. on Sunday November 19, 2000. This action is necessary to facilitate replacement of the submarine power cables at the bridge.

DATES: This deviation is effective from November 18, 2000, to November 19, 2000.

FOR FURTHER INFORMATION CONTACT: John McDonald, Project Officer, First Coast Guard District, at (617) 223-8364.

SUPPLEMENTARY INFORMATION: The MBTA/Amtrak Bridge, at mile 0.05, across the Danvers River, has a vertical clearance of 3 feet at mean high water, and 12 feet at mean low water in the closed position. The existing drawbridge operating regulations are listed at 33 CFR 117.595(b).

The bridge owner requested a temporary deviation from the drawbridge operating regulations to facilitate the necessary maintenance for the replacement of the submarine power cables at the bridge. This deviation from the operating regulations allows the bridge owner to keep the bridge in the closed position from 6 a.m. on Saturday, November 18, 2000, through 6 p.m. on Sunday, November 19, 2000. Vessels that can pass under the bridge without an opening may do so at all times during the closed period.

In accordance with 33 CFR 117.35(c), this work will be performed with all due speed in order to return the bridge to normal operation as soon as possible. This deviation from the operating regulations is authorized under 33 CFR 117.35.

Dated: October 31, 2000.
G.N. Naccara,
Rear Admiral, U.S. Coast Guard Commander, First Coast Guard District.

[FR Doc. 00-28997 Filed 11-9-00; 8:45 am]

BILLING CODE 4910-15-U